DEPARTMENT OF HEALTH AND HUMAN SERVICES

National Institutes of Health

National Institute of Allergy and Infectious Diseases; Amended Notice of Meeting

Notice is hereby given of a change in the meeting of the National Institute of Allergy and Infectious Diseases Special Emphasis Panel, February 08, 2018, 08:00 a.m. to February 09, 2018, 05:00 p.m., National Institutes of Health, 5601 Fishers Lane, Rockville, MD, 20892 which was published in the Federal Register on January 19, 2018, 83 FR 2810.

This meeting notice is being amended to change the date of the meeting from February 8-9, 2018 to February 7-9, 2018. The meeting is closed to the public.

Dated: January 23, 2018.
Natasha M. Copeland,
Program Analyst, Office of Federal Advisory Committee Policy.

[FR Doc. 2018-01524 Filed 1-26-18; 8:45 am]

BILLING CODE 4140-01-P